DEPARTMENT OF AGRICULTURE

Natural Resources Conservation Service

Notice of Proposed Changes to Section IV of the Field Office Technical Guide

AGENCY: Natural Resources Conservation Service (NRCS), Department of Agriculture.

ACTION: Notice of proposed changes to Section IV of the Field Office Technical Guide in Maryland.

SUMMARY: It is the intention of NRCS in Maryland to review the following conservation practice standards, and revise and/or reissue them as appropriate:

Brush Management (Code 314); Channel Vegetation (Code 322); Chiseling and Subsoiling (Code 324); Clearing and Snagging (Code 326); Closure of Waste Impoundments (Code 360); Composting Facility (Code 317); Contour Buffer Strips (Code 332); Contour Farming (Code 330); Contour Stripcropping (Code 585); Critical Area Planting (Code 342); Cross Wind Stripcropping and/or Trap Strips (Codes 589B & C); Diversion (Code 362); Dry Hydrant (Code 432); Fence (Code 382); Filter Strip (Code 393); Firebreak (Code 394); Forage Harvest Management (Code 511); Forest Site Preparation (Code 490); Forest Stand Improvement (Code 666); Grassed Waterway (Code 412); Irrigation Storage Reservoir (Code 436); Irrigation System, Sprinkler (Code 442); Irrigation System, Trickle (Code 441); Irrigation Water Management (Code 449); Land Clearing (Code 460); Land Reconstruction, Abandoned Mined Land (Code 543); Land Reconstruction, Currently Mined Land (Code 544); Land Smoothing (Code 466); Manure Transfer (Code 634); Mulching (Code 484); Nutrient Management (Code 590); Open Channel (Code 582); Pasture and Hay Planting (Code 512); Pest Management (Code 595); Pipeline (Code 516); Pond Sealing or Lining (Code 521); Recreation Area Improvement (Code 562); Recreation Land Grading and Shaping (Code 566); Recreation Trail and Walkway (Code 568); Riparian Herbaceous Cover (Code 390); Roof Runoff Management (Code 558); Sediment Basin (Code 350); Spoil Spreading (Code 572); Spring Development (Code 574); Stream Crossing (Code 728); Streambank and Shoreline Protection (Code 580); Stripcropping, Field (Code 586); Subsurface Drain (Code 606); Surface Drain, Field Ditch (Code 607); Surface Drain, Main or Lateral (Code 608); Terrace (Code 600); Toxic Salt Reduction (Code 610); Tree/Shrub Establishment (Code 612); Tree/Shrub Pruning (Code 660); Underground Outlet (Code 620); Use Exclusion (Code 472); Waste Field Storage (Code 749); Waste Management System (Code 312); Waste Utilization (Code 633); Wastewater Treatment Strip (Code 635); Watering Facility (Code 614); Water and Sediment Control Basin (Code 638); Water Well (Code 642); Watering Facility (Code 614); Windbreak/Shelterbelt Establishment (Code 380). Some of these practice standards may be used in conservation systems to comply with Highly Erodible Land and Wetland Conservation provisions of the Farm Bill. Standards that NRCS decides are no longer needed in Maryland will be cancelled.

DATES: Revised conservation practice standards will be issued periodically beginning January 26, 2001. There will be a 30-day public comment period for each standard that is issued.

FOR FURTHER INFORMATION CONTACT: Inquire in writing to David P. Doss, State Conservationist, Natural Resources Conservation Service, 339 Busch's Frontage Road, Suite 301, Annapolis, MD 21401. You may submit electronic requests to david.doss@md.usda.gov.

NRCS will maintain a list of persons who have requested the revised standards. Hard copies will be mailed to persons requesting a paper format. Persons who have submitted electronic requests will be notified by e-mail of the availability of the standards on the Maryland NRCS homepage. Electronic copies will be posted on the Internet at http://www.md.nrcs.usda.gov. Click on “Technology,” then on “Draft Conservation Practice Standards.”

SUPPLEMENTARY INFORMATION: Section 343 of the Federal Agriculture Improvement and Reform Act of 1996 states that revisions made after enactment of the law to NRCS state technical guides used to carry out highly erodible land and wetland provisions of the law shall be made available for public review and comment. NRCS will provide a 30-day public review and comment period relative to the proposed changes. At the close of the comment period, NRCS will make a determination regarding any changes to the draft conservation practice standards, and will publish the final standards for use in NRCS field offices. The final standards will also be posted on the Internet at the address noted above.

Dated: January 17, 2001.
David P. Doss,
State Conservationist, NRCS, Annapolis, Maryland.

[FR Doc. 01-7030 Filed 3-20-01; 8:45 am]

BILLING CODE 3410-16-P